NUCLEAR REGULATORY COMMISSION

[Docket No. 40-9086; NRC-2010-0143]

Safety Evaluation Report, International Isotopes Fluorine Products, Inc., Fluorine Extraction Process and Depleted Uranium Deconversion Plan, Lea County, NM

AGENCY: Nuclear Regulatory Commission.

ACTION: Notice of availability.

SUMMARY: The U.S. Nuclear Regulatory Commission (NRC or the Commission) is considering the issuance of a license to International Isotopes Fluorine Products, Inc., (IIFP or the applicant) to authorize construction and operations of a depleted uranium deconversion facility and possession and use of source material. This proposed facility is known as the Fluorine Extraction Process and Depleted Uranium Deconversion Plant (FEP/DUP) and will be located in Lea County, New Mexico. The NRC has prepared a Safety Evaluation Report (SER) in support of this license application review (NUREG-2116).

ADDRESSES: Please refer to Docket ID NRC-2010-0143 when contacting the NRC about the availability of information regarding this document. You may access information related to this document, which the NRC possesses and is publicly available using the following methods:

• Federal Rulemaking Web site: Go to http://www.regulations.gov and search for Docket ID NRC-2010-0143. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Matthew Bartlett, Project Manager, Conversion, Deconversion and Enrichment Branch, Division of Fuel Cycle Safety and Safeguards, Office of Nuclear Material Safety and Safeguards, U.S. Nuclear Regulatory Commission, Washington, DC 20555-0001; telephone: 301-492-3119; email: Matthew.Bartlett@nrc.gov.

SUPPLEMENTARY INFORMATION:

I. Introduction

By letter dated December 30, 2009, the applicant submitted to the NRC, an application requesting a license, under Title 10 of the Code of Federal Regulations (10 CFR) Part 40 to possess and use source material for a fluorine extraction and depleted uranium deconversion facility. The applicant proposes that the facility, known as the FEP/DUP, be located in Lea County, New Mexico, about 23 kilometers (14 miles) east of the city of Hobbs, New Mexico. By letter dated May 3, 2012, IIFP submitted an updated application incorporating information requested by the NRC staff during the application review, see ADAMS Accession Number ML12124a307.

The NRC staff has prepared the SER in support of this license application review. The SER discusses the results of the safety review performed by the staff in the following areas: General information, organization and administration, integrated safety analysis (ISA) and ISA summary, radiation protection, nuclear criticality safety, chemical process safety, fire safety, emergency management, environmental protection, decommissioning, management measures, quality assurance program description, physical protection, materials control and accountability, and human factors.

II. Further Information

The SER is available electronically at the NRC's Electronic Reading Room at http://www.nrc.gov/reading-rm/adams.html. From this site, you can access the NRC's ADAMS, which provides text and image files of NRC's public documents. The ADAMS Accession Number for the May 3, 2012, revised license application is ML12123a245. The ADAMS Accession Number for the May 22, 2012 SER is ML113140271.

If you do not have access to ADAMS or if there are problems in accessing the documents located in ADAMS, contact the NRC Public Document Room's (PDR's) reference staff at 800-397-4209, 301-415-4737 or via email to pdr.resource@nrc.gov.

These documents may also be viewed electronically on the public computers located at the NRC's PDR, O1-F21, One White Flint North, 11555 Rockville Pike, Rockville, Maryland 20852. The PDR reproduction contractor will copy documents for a fee.

Dated at Rockville, Maryland, this 22nd day of May 2012.
For the U.S. Nuclear Regulatory Commission.
Marissa Bailey,
Deputy Director, Division of Fuel Cycle Safety and Safeguards, Office of Nuclear Material Safety and Safeguards.

[FR Doc. 2012-13183 Filed 5-30-12; 8:45 am]

BILLING CODE 7590-01-P